FEDERAL COMMUNICATIONS COMMISSION

47 CFR Part 2

[DA 01-786, ET Docket No. 00-258]

Final Report Spectrum Study of 2500-2690 MHz Band: The Potential for Accommodating Third Generation Mobile Systems

AGENCY: Federal Communications Commission.

ACTION: Request for comments.

SUMMARY: On March 30, 2001, the Federal Communications Commission released a Final Report on a spectrum study of the 2500-2690 MHz band for Third Generation (3G) wireless systems. The Final Report reviews and evaluates the earlier analyses and evaluates additional topics, including potential alternate frequency bands for relocating Instructional Television Fixed Service and Multipoint Distribution Service operations and the costs associated with relocation.

DATES: Comments Due: April 16, 2001.

FOR FURTHER INFORMATION CONTACT: Rodney Small, or Geraldine Matise, Office of Engineering and Technology, (202) 418-2452, or (202) 418-2322, respectively; internet: rsmall@fcc.gov, or gmatise@fcc.gov, respectively.

SUPPLEMENTARY INFORMATION: This is a summary of the text of the Public Notice, DA 01-786 released March 30, 2001. This document is available on the Commission's Internet site, at www.fcc.gov. It is also available for inspection and copying during regular business hours in the FCC Reference Center, Room CY-A257, 445 12th Street, SW., Washington, DC, and also may be purchased from the Commission's duplication contractor, International Transcription Service, Inc., (202) 857-3800, 1231 20th Street, NW., Washington, DC 20036.

Summary of the Public Notice

1. The staff of the Federal Communications Commission today released a Final Report on a spectrum study of the 2500-2690 MHz band for Third Generation (3G) wireless systems. The Final Report was prepared under the leadership of the Office of Engineering and Technology, in cooperation with the Mass Media Bureau, Wireless Telecommunications Bureau, and the International Bureau.

2. The 2500-2690 MHz band was identified by the 2000 World Radiocommunication Conference (WRC-2000) as candidate spectrum for 3G systems, along with the 806-960 MHz and 1710-1885 MHz bands. The WRC-2000 results allow countries flexibility in deciding how to implement 3G systems. The conference recognized that in many countries the frequency bands identified for 3G may already be in use by equally vital services. In the United States, the 2500-2690 MHz band is currently used by the Instructional Television Fixed Service (ITFS) and Multipoint Distribution Service (MDS).

3. The technical study of the 2500-2690 MHz band has been conducted in two stages. In an Interim Report in ET Docket No. 00-232, released November 15, 2000, the staff examined technical characteristics of 3G systems; the existing and planned use of the 2500-2690 MHz band; the ability for 3G systems to share spectrum with incumbent services; and possible options for segmenting the frequency band to provide spectrum for 3G systems. The Final Report reviews and evaluates the earlier analyses and evaluates additional topics, including potential alternate frequency bands for relocating ITFS/MDS operations and the costs associated with relocation.

4. The study conducted by the FCC staff is a companion to a study done by the National Telecommunications and Information Administration (NTIA) on the 1755-1850 MHz band. The NTIA Interim Report (“Federal Operations in the 1755-1850 MHz Band: The Potential for Accommodating Third Generation Mobile Systems”), which was issued on November 15, 2000, and the NTIA Final Report (“The Potential for Accommodating Third Generation Mobile Systems in the 1710-1850 MHz Band: Federal Operations, Relocation Costs, and Operational Impacts”) cover the same topics as the FCC staff reports. The FCC and NTIA band study reports are consistent with a Study Plan issued by Department of Commerce on October 20, 2000.

5. Earlier this year, the Commission issued a Notice of Proposed Rulemaking (NPRM) in ET Docket No. 00-258 on January 5, 2001, to examine and propose spectrum for allocation to fixed and mobile services that would be capable of being used to provide 3G wireless services. The NPRM recognized that a number of frequency bands, including the 1755-1850 MHz and 2500-2690 MHz bands, are capable of supporting advanced wireless systems, and invited comment on the Interim Reports issued by the FCC staff and NTIA. To provide a complete record on issues under review in ET Docket No. 00-258, the Commission seeks comment on the Final Reports of the 1755-1850 MHz and 2500-2690 MHz band studies.

6. We hereby solicit comment by April 16, 2001 on the issues raised in the Final Reports. Comments should be filed in ET Docket No. 00-258. Comments may be filed using the Commission's Electronic Comment Filing System (ECFS) or by filing paper copies. Generally, only one electronic submission must be filed. If filing by paper, parties must file an original and four copies. Parties should send comments to the Office of the Secretary, Federal Communications Commission, 445 12th Street, S.W., Washington, D.C. 20554. Parties are also encouraged to file a copy of all pleadings on a 3.5 inch diskette in Word 97 format.

7. Comments filed through the ECFS can be sent as an electronic file via the Internet at http://www.fcc.gov/e-file/ecfs.html. In completing the transmittal screen, commenters should include their full name, Postal Service mailing address, and the applicable docket number. Parties may also submit an electronic comment by Internet e-mail. To obtain filing instructions for e-mail comments, commenters should send an e-mail to ecfs@fcc.gov, and should include the following words in the body of the message: “get form (your e-mail address).” A sample form and directions will be sent in reply.

8. The full texts of the FCC and NTIA Final Reports are available for public inspection and copying during regular business hours at the FCC Reference Information Center, Portals II, 445 12th Street, SW., Room CY-A257, Washington, DC 20554. These documents may also be purchased from the Commission's copy contractor, International Transcription Service, Inc., 1231 20th Street, NW, 20036., telephone 202-857-3800, facsimile 202-857-3805, TTY 202-293-8810. You may also view the FCC Final Report at http://www.fcc.gov/3G/ and the NTIA Final Report at http://www.ntia.doc.gov/ntiahome/threeg/

9. This matter shall be treated as a “permit-but-disclose” proceeding in accordance with the Commission's ex parte rules. See 47 CFR 1.1200 and 1.1206. Persons making oral ex parte presentations are reminded that memoranda summarizing the presentations must contain summaries of the substance or the presentations and not merely a listing of the subjects discussed. More than a one or two sentence description of the views and arguments presented generally is required. See 47 CFR 1.1206(b). Other rules pertaining to oral and written ex parte presentations in permit-but-disclose proceedings are set forth in 47 CFR 1.1206(b).

10. This action is taken pursuant to authority found in sections 4(i) and 303(r) of the Communications Act of 1934, as amended, 47 U.S.C. 154(i) and 303(r); and pursuant to sections 0.31 and 0.241 of the Commission's Rules, 47 CFR 0.31 and 0.241.

11. For further information, contact Geraldine Matise, Office of Engineering and Technology, 202-418-2322 (gmatise@fcc.gov) or Rodney Small, Office of Engineering and Technology, 202-418-2452 (rsmall@fcc.go).

Federal Communications Commission.
Geraldine Matise,
Deputy Chief, Policy and Rules Division, Office of Engineering and Technology.

[FR Doc. 01-8841 Filed 4-10-01; 8:45 am]

BILLING CODE 6712-01-P